DEPARTMENT OF COMMERCE

National Oceanic and Atmospheric Administration

RIN 0648-XC677

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, June 3-11, 2013 at the Centennial Hall, 101 Egan Drive, Juneau, AK.

DATES: The Council will begin its plenary session at 8 a.m. on Wednesday, June 5, continuing through Tuesday, June 11, 2013. The Scientific Statistical Committee (SSC) will begin at 8 a.m. on Monday, June 3 and continue through Wednesday, June 5. The Council's Advisory Panel (AP) will begin at 8 a.m. on Tuesday, June 4 and continue through Saturday, June 8. The Ecosystem Committee will meet Tuesday, June 4, 2013, 10 a.m. to 5 p.m., at the Federal Building, 709 W. 9th Street, Sustainable Fisheries conference room, 4th floor, Juneau, AK. The Enforcement Committee will meet Tuesday, June 4, from 1 p.m. to 5 p.m. at the Goldbelt Hotel, 51 Egan Drive, Chilkat Room, Juneau, AK. All meetings are open to the public, except executive sessions.

ADDRESSES: The Council meeting will be held at Centennial Hall, 101 Egan Drive, Juneau, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session

The agenda for the Council's plenary session will include the following issues. The Council may take appropriate action on any of the issues identified.

1. Executive Director's Report

NMFS Management Report (including flow scale discussion paper, update on halibut/sablefish IFQ leasing prohibition, Essential Fish Habitat update)

NOAA Enforcement Report

ADF&G Report

USCG Report

USFWS Report

Protected Species Report (including Progress report and Biological Opinion (BiOp) analytical approach on Steller Sea Lion (SSL) Environmental Impact Statement (EIS)

2. Bering Sea Aleutian Island (BSAI) Crab: Receive Crab Plan Team report; Set final Overfishing Levels (OFL)/Acceptable Biological Catch (ABC) specifications for 4 stocks.

3. Freezer Longline Issues: Final action on Gulf of Alaska (GOA) Pacific cod sideboards; Industry update on Bering Sea Turbot fishery negotiations.

4. Observer Program: Review first year report; Electronic Monitoring (EM) strategic plan; Review Observer Advisory Committee (OAC) report; Review 3rd Party discussion paper.

5. GOA Salmon Chinook Bycatch: Final action on GOA Chinook salmon bycatch in non-pollock trawl fisheries.

6. GOA Trawl Bycatch: Discussion paper on GOA Trawl Bycatch management/roadmap; Initial review on GOA Trawl Data Collection; Tendering report.

7. Limited Access Privilege Programs (LAPPs) Cost Recovery: Council recommendation on cost recovery programs for American Fishery Act (AFA), Amendment 80, and Community Development Quota (CDQ) groundfish/halibut LAPPs.

8. Bering Sea Canyon: Review updated Alaska Fishery Science Center report; Discussion paper on fishing activities and management.

9. Miscellaneous Issues: Initial review of analysis regarding definition of fishing guide (Council only); Update on Halibut/Sablefish Individual Fishing Quota (IFQ) discussion papers (GOA sablefish pots, sablefish A-share caps); Approve Research Priorities.

10. Staff Tasking: Review Committees and tasking.

The SSC agenda will include the following issues:

1. BS/AI Crab

2. GOA Trawl Data Collection

3. Bering Sea Canyons

4. Approve Research Priorities

The Advisory Panel will address most of the same agenda issues as the Council except B reports. The Agenda is subject to change, and the latest version will be posted at http://www.alaskafisheries.noaa.gov/npfmc/.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 7, 2013.
Tracey L. Thompson,
Acting Deputy Director, Office of Sustainable Fisheries, National Marine Fisheries Service.

[FR Doc. 2013-11149 Filed 5-9-13; 8:45 am]

BILLING CODE 3510-22-P